DEPARTMENT OF COMMERCE

National Oceanic and Atmospheric Administration

RIN 0648-XT12

Petition To List 83 Species of Coral as Threatened or Endangered Under the Endangered Species Act (ESA)

AGENCY: National Marine Fisheries Service (NMFS), National Oceanic and Atmospheric Administration (NOAA), Commerce.

ACTION: Notice of details of public listening sessions and scientific workshops.

SUMMARY: We, NMFS, announced in an April 17, 2012, Federal Register notice, public listening sessions and science workshops related to our status review of 82 coral species in response to a petition from the Center for Biological Diversity (CBD) to list 83 coral species as threatened or endangered under the Endangered Species Act (ESA). The purposes of the listening sessions are to explain to the public the process and information we are using to decide whether listing one or more of the 82 corals species is warranted, and to allow opportunity for the public to provide us with additional information that may further inform that decision. The purpose of the science workshops is to provide the opportunity for additional individual expert advice and public input on the science relevant to our decision concerning the 82 species of coral being considered for listing under the ESA.

DATES: The public listening sessions and science workshops will be held in June 2012. For specific dates and times, see SUPPLEMENTARY INFORMATION.

ADDRESSES: A public listening session and a science workshop will be held in Hawaii, and another public listening session and another science workshop will be held in Florida. For specific locations, see SUPPLEMENTARY INFORMATION. You may obtain a copy of the Status Review Report of 82 Candidate Coral Species Petitioned Under the U.S. Endangered Species Act (Status Review Report) and the draft Management Report for 82 Corals Status Review under the Endangered Species Act: Assessment of Existing Regulatory Mechanisms and Conservation Efforts (draft Management Report) by visiting the Internet at: http://www.nmfs.noaa.gov/stories/2012/04/4_13_12corals_petition.html.

The two reports may also be viewed, by appointment, during regular business hours, at: NMFS, Pacific Islands Regional Office, 1601 Kapiolani Blvd., Suite 1110, Honolulu, HI, 96814; or NMFS, Southeast Regional Office, 263 13th Avenue South, St. Petersburg, FL 33701.

FOR FURTHER INFORMATION CONTACT: For listening sessions: Chelsey Young, NMFS, Pacific Islands Regional Office, 808-944-2137; Lance Smith, NMFS, Pacific Island Regional Office, 808-944-2258; Jennifer Moore, NMFS, Southeast Regional Office, 727-824-5312. For science workshops: Samuel Pooley, NMFS, Pacific Islands Fisheries Science Center, 808-983-5301; Margaret Miller, NMFS, Southeast Fisheries Science Center, 305-361-4561.

SUPPLEMENTARY INFORMATION:

Background

These public listening sessions and science workshops are not part of the usual rulemaking process and are unique to NMFS's response to the petition to list 83 coral species. Thus, the additional outreach conducted in this case does not establish precedent for any other ESA-listing process.

We will hold one public listening session and one science workshop in each of two NMFS regions: the Southeast and Pacific Islands.

Speaker Sign Up

Doors will open for speaker registration one hour before the listening sessions and science workshops begin, though sign-up will continue throughout these meetings. If there are more speakers signed up than time allows for, we will select speakers from the registration list randomly. Registered speakers will be asked to indicate their full name, contact information, any organization(s) they are representing, and a brief summary of the information provided. Because it is possible that the schedule may not accommodate all registered speakers, we also encourage attendees to submit written information at the listening sessions and science workshops.

Listening Sessions

June 25, 2012: 6-9 p.m.; Pagoda Hotel; 1525 Rycroft Street; Honolulu, HI; telephone: (808) 941-6611.

June 28, 2012: 4-7 p.m.; Nova Southeastern University, Oceanographic Center, Center of Excellence in Coral Reef Ecosystems Science, 8000 North Ocean Drive; Dania Beach, FL; telephone: (954) 262-3600.

NMFS staff will provide a moderator for meeting management. Note-takers will document the listening sessions, and audio recordings will be used to assist in clarifying speaker information for the final record.

NMFS staff will provide a brief PowerPoint presentation that will cover the ESA status review process, the Status Review Report, and the draft Management Report. There will then be an interactive, time-limited, question-and-answer period during which attendees may ask NMFS staff about information presented. Finally, registered speakers will be provided with an opportunity to speak and provide information. Each registered speaker will be limited to 5 minutes. Attendees may also submit written information.

Science Workshops

June 18, 2012: 8:30 a.m.-4:30 p.m.; East-West Center; Jefferson Hall (Imin Conference Center), University of Hawaii campus, 1601 East-West Road, Honolulu, HI; telephone: (808) 983-5303.

June 27, 2012: 8:30 a.m.-5:30 p.m.; Nova Southeastern University, Oceanographic Center, Center of Excellence in Coral Reef Ecosystems Science, 8000 North Ocean Drive, Dania Beach, FL; telephone: (954) 262-3600.

Science Workshop Topics

The science workshops in the Pacific Islands (HI) and Southeast (FL) regions will follow a similar format. Each will begin with a brief presentation on the Status Review Report, followed by sessions that expand specific elements of the Status Review Report. The science workshops will focus on two themes: “Climate Change and Climate Impacts on Coral Reef Ecosystems,” and “Coral Reef Ecology and Adaptation.” The Pacific Islands science workshop will include two Panel sessions, and the Southeast science workshop will include three sessions.

Speaker Time Limits and Opportunities for Public Input

After the presentation on the Status Review Report, there will be an interactive, time-limited, question-and-answer period during which attendees may ask NMFS staff about information presented.

After each thematic session, there will be a 45- to 60-minute period during which registered speakers will be given an opportunity to ask additional questions of the panelists or to present additional information.

During registration, speakers should sign up to speak under one or more thematic sessions. Each registered speaker will be limited to 5 minutes. Attendees may also submit written information.

Questions

Questions to panelists should be limited to those necessary to clarify the panelist's presentation. Questions seeking consensus among panelists or registered speakers will not be entertained.

Workshop Rapporteur

NOAA scientific experts knowledgeable of coral reef ecosystems and climate will prepare a summary of the workshop, noting the main points raised by the panelists and the registered speakers. This summary and any written information submitted by the panelists, registered speakers, or other attendees will be part of the record of the workshop.

Authority: 16 U.S.C. 1531 et seq.

Dated: May 16, 2012.
Alan D. Risenhoover,
Acting Deputy Assistant Administrator for Regulatory Programs, National Marine Fisheries Service.

[FR Doc. 2012-12368 Filed 5-21-12; 8:45 am]

BILLING CODE 3510-22-P